DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 U.S.C. 1531 et seq.).

Permit No. TE-814216

Applicant: Mark A. Holmgren, Santa Barbara, California

The applicant requests a permit to take (harass by survey, locate and monitor nests, capture, mark, band, and release) the southwestern willow flycatcher (Empidonax traillii extimus) and take (locate and monitor nests) the least Bell's vireo (Vireo bellii pusillus) in conjunction with surveys and scientific research through out each species range in California for the purpose of enhancing their survival.

Permit No. TE-032209

Applicant: Guam Department of Agriculture, Division of Aquatic and Wildlife Resources, Mangilao, Guam

The applicant requests a permit to take (collect eggs, hatchlings, and adults; band; collect blood samples; and apply radio transmitters) the Mariana crow (Corvus kubaryi) in conjunction with captive propagation, translocation, and release on the island of Rota, in the Commonwealth of the Northern Mariana Islands, and Guam for the purposes of enhancing its survival. These activities have previously been authorized under subpermit GDAWR-4.

Permit No. TE-032711

Applicant: Timothy Ziesmer, Bodega, California

The applicant requests a permit to take (capture) the San Francisco garter snake (Thamnophis sirtalis tetrataenia) in conjunction with population studies thoughout the species range in California for the purpose of enhancing its survival.

Permit No. TE-016591

Applicant: Wendy Weber, Hayward, California

The permittee requests a permit amendment to take (capture) the San Francisco garter snake (Thamnophis sirtalis tetrataenia) and the Alameda whipsnake (Masticophis lateralis euryxanthus) in conjunction with surveys and population studies thoughout the range of each species in California for the purpose of enhancing their survival.

Permit No. TE-832262

Applicant: Department of Parks and Recreation, San Luis Obispo, California

The permittee requests a permit amendment to take (locate) the Morro shoulderband snail (Helminthoglypta walkeriana) in conjunction with habitat enhancement in San Luis Obispo, California for the purpose of enhancing its survival.

Permit No. TE-032713

Applicant: California Department of Transportation, Clovis, California

The applicant requests a permit to take (harass by survey, collect and sacrifice) the Conservancy fairy shrimp (Branchinecta conservatio), longhorn fairy shrimp (Branchinecta longiantenna), vernal pool tadpole shrimp (Lepidurus packardi), San Diego fairy shrimp (Brachinecta sandiegonensis), and the Riverside fairy shrimp (Streptocephalus woottoni) in conjunction with surveys throughout each species' range in California for the purpose of enhancing their survival.

Permit No. TE-034299

Applicant: Psomas, Costa Mesa, California

The applicant requests a permit to take (harass by survey, locate and monitor nests) the southwestern willow flycatcher (Empidonax traillii extimus) in conjunction with surveys and scientific research through out each species range in California for the purpose of enhancing its survival.

Permit No. TE-034293

Applicant: Bureau of Reclamation, Klamath Falls, Oregon

The applicant requests a permit to take (capture and sacrifice) the shortnose sucker (Chasmistes brevirostris) and the Lost River sucker (Deltistes luxatus) in conjunction with population and ecological studies throughout each species range for the purpose of enhancing their survival. These activities were previously authorized under subpermit BUETM-3.

Permit No. TE-003483

Applicant: Biological Resources Division, Pacific Island Ecosystems Research Center, Hawaii National Park, Hawaii

The permittee requests a permit amendment to take (locate and monitor nests) the nene goose (Branta sandivcensis) in conjunction with population estimates and ecological studies throughout the species range within the Hawaiian Islands, for the purpose of enhancing its survival.

Permit No. TE-032726

Applicant: Nevada Division of Wildlife, Reno, Nevada

The applicant requests a permit to: take (capture, remove biological samples, translocate, and release) the Devil's Hole pupfish (Cyprinodon diabolis) in conjunction with genetic research; take (capture, remove biological samples, and transport) the Pahranagat roundtail chub (Gila robusta jordani); take (capture, mark, transfer, and release) the Pahrump poolfish (Empetrichthys latos latos); take (capture, release, or kill) the Ash Meadows speckled dace (Thinichthys osculus nevadensis); and take (hold, mark, transfer, and release) the woundfin (Plagopterus argentissimus) in conjunction with population management and scientific research; and take (capture, rear, mark, and release) the razorback sucker (Xyrauchen texanus) in conjunction with an established recovery program throughout each species' range for the purpose of enhancing their survival. These activities were previously authorized under subpermit NDOW-15.

DATES: Written comments on these permit applications must be received on or before December 6, 2000.

ADDRESSES: Written data or comments should be submitted to the Chief-Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: October 27, 2000.
Rowan W. Gould,
Acting Regional Director, Region 1, Portland, Oregon.

[FR Doc. 00-28364 Filed 11-3-00; 8:45 am]

BILLING CODE 4310-55-P